SMALL BUSINESS ADMINISTRATION

National Women's Business Council; Public Meeting Notice

In accordance with the Women's Business Ownership Act, Public Law 106-554 as amended, the National Women's Business Council (NWBC) would like to announce a forthcoming Council meeting. The National Women's Business Council will join women members of the United States Senate for an afternoon of dialogue. The meeting will be held on Tuesday, May 23, 2006, starting at 3 p.m. until 4:30 p.m. The meeting will take place at the Hart Senate Office Building, 2nd & D Streets, NE., Room SH-902, Washington, DC 20510.

The purpose of the meeting is to discuss the impact of current policies on women's entrepreneurship and exchange ideas about goals for the women's business community for the next three, five and ten years.

Anyone wishing to attend or to make a presentation must contact Katherine Stanley in writing or by fax, in order to be put on the agenda. Katherine Stanley, Operations Manager, National Women's Business Council, 409 3rd Street, SW., Washington, DC 20416, phone (202) 205-3850, fax (202) 205-6825.

Matthew Becker,
Committee Management Officer.

[FR Doc. E6-7347 Filed 5-12-06; 8:45 am]

BILLING CODE 8025-01-P